FEDERAL DEPOSIT INSURANCE CORPORATION

Sunshine Act Meeting

Pursuant to the provisions of the “Government in the Sunshine Act” (5 U.S.C. 552b), notice is hereby given that the Federal Deposit Insurance Corporation's Board of Directors will meet in open session at 10:00 a.m. on Tuesday, November 19, 2019, to consider the following matters:

Summary Agenda

No substantive discussion of the following items is anticipated. These matters will be resolved with a single vote unless a member of the Board of Directors requests that an item be moved to the discussion agenda.

Disposition of Minutes of a Board of Directors' Meeting Previously Distributed.

Memorandum and resolution re: Regulatory Capital Rule: Revisions to the Supplementary Leverage Ratio to Exclude Certain Central Bank Deposits of Banking Organizations Predominantly Engaged in Custody, Safekeeping and Asset Servicing Activities.

Memorandum and resolution re: Regulatory Capital Treatment for High Volatility Commercial Real Estate (“HVCRE”) Exposures.

Memorandum and resolution re: Final Rule Removing Transferred OTS Regulation, Part 390 Subpart M—Deposits.

Memorandum and resolution re: Notice of Final Rulemaking Re: The Use and Remittance of Certain Assessment Credits.

Memorandum and resolution re: Establishment of the FDIC Advisory Committee of State Regulators.

Reports of actions taken pursuant to authority delegated by the Board of Directors and reports of the Office of Inspector General.

Discussion Agenda

Memorandum and resolution re: Regulatory Capital Rule: Standardized Approach for Calculating the Exposure Amount of Derivative Contracts.

Memorandum and resolution re: Notice of Proposed Rulemaking on Conversion of the Statement of Policy for Section 19 of the Federal Deposit Insurance Act to a Regulation.

Memorandum and resolution re: Notice of Proposed Rulemaking on Federal Interest Rate Authority.

The meeting will be held in the Board Room located on the sixth floor of the FDIC Building located at 550 17th Street NW, Washington, DC.

This Board meeting will be Webcast live via the internet and subsequently made available on-demand approximately one week after the event. Visit http://fdic.windrosemedia.com to view the live event. Visit http://fdic.windrosemedia.com/index.php?category=FDIC+Board+Meetings after the meeting. If you need any technical assistance, please visit our Video Help page at: https://www.fdic.gov/video.html.

The FDIC will provide attendees with auxiliary aids (e.g., sign language interpretation) required for this meeting. Those attendees needing such assistance should call 703-562-2404 (Voice) or 703-649-4354 (Video Phone) to make necessary arrangements.

Requests for further information concerning the meeting may be directed to Mr. Robert E. Feldman, Executive Secretary of the Corporation, at 202-898-7043.

Dated at Washington, DC, on November 12, 2019.
Federal Deposit Insurance Corporation.
Robert E. Feldman,
Executive Secretary.

[FR Doc. 2019-24851 Filed 11-12-19; 4:15 pm]

BILLING CODE 6714-01-P